DEPARTMENT OF ENERGY

10 CFR Part 431

[Docket Number EERE-2008-BT-TP-0008]

RIN 1904-AB71

Energy Conservation Program: Energy Conservation Standards for Electric Motors

AGENCY: Office of Energy Efficiency and Renewable Energy, Department of Energy.

ACTION: Final rule; technical correction.

SUMMARY: The U.S. Department of Energy (DOE) published a final rule on March 23, 2009, promulgating energy conservation standards for certain electric motors as prescribed in the Energy Policy and Conservation Act, as amended by the Energy Independence and Security Act. This document is being issued to correct the energy efficiency levels that DOE promulgated for NEMA Design B general purpose electric motors that, due to a drafting error, are not consistent with statutory requirements.

DATES: This technical correction is effective as of December 22, 2010.

FOR FURTHER INFORMATION CONTACT: Mr. James Raba, U.S. Department of Energy, Office of Energy Efficiency and Renewable Energy, Building Technologies Program, EE-2J, 1000 Independence Avenue, SW., Washington, DC 20585-0121. Telephone: (202) 586-8654. E-mail: Jim.Raba@ee.doe.gov.

In the Office of the General Counsel, contact Ms. Ami Grace-Tardy, U.S. Department of Energy, Office of the General Counsel, GC-71, 1000 Independence Avenue, SW., Washington, DC 20585. Telephone: (202) 586-5709. E-mail: Ami.Grace-Tardy@hq.doe.gov.

SUPPLEMENTARY INFORMATION:

I. Background

The Energy Policy and Conservation Act (EPCA), as amended by section 313(b)(1)(B) of the Energy Independence and Security Act (EISA 2007), requires each National Electrical Manufacturers Association (NEMA) Design B, general purpose electric motor with a power rating of more than 200 horsepower, but not greater than 500 horsepower, manufactured (alone or as a component of another piece of equipment) after December 19, 2010, to have a nominal full load efficiency that is not less than the values in NEMA Standard MG-1 (2006) Table 12-11. (42 U.S.C. 6313(b)(2)(D)) DOE codified this requirement at 10 CFR 431.25(f). 74 FR 12058 (March 23, 2009)

It was recently discovered that the efficiency levels under 10 CFR 431.25(f), for NEMA Design B, six-pole open motors rated 250, 300, and 350 horsepower are not consistent with the EISA 2007 levels as prescribed. Today's final rule conforms these efficiency levels with EPCA, as amended by EISA 2007, by replacing the nominal full load efficiency of “94.5” with “95.4.”

II. Need for Correction

As published, the nominal full load efficiency table at 10 CFR 431.25(f) contains three values that deviate from the requirements established by EPCA, as amended by EISA 2007. To correct this error, DOE is amending 10 CFR 431.25(f) to replace the current table with a corrected table of values. In light of the statutory requirement, the change addressed by today's document is technical in nature. In addition, because DOE does not have the discretion to deviate from these statutorily-prescribed requirements, DOE finds that there is good cause under 5 U.S.C. 553(b)(B) to not issue a separate notice to solicit public comment on the changes contained in this document. Issuing a separate notice to solicit public comments would be impractical, unnecessary, and contrary to the public interest.

List of Subjects in 10 CFR part 431

Administrative practice and procedure, Energy conservation, Reporting and recordkeeping requirements.

Issued in Washington, DC, on December 15, 2010.
Cathy Zoi,
Assistant Secretary, Energy Efficiency and Renewable Energy.

For the reasons stated in the preamble, DOE amends 10 CFR Part 431 as set forth below.

PART 431—ENERGY EFFICIENCY PROGRAM FOR CERTAIN COMMERCIAL AND INDUSTRIAL EQUIPMENT

1. The authority citation for part 431 continues to read as follows:

Authority: 42 U.S.C. 6291-6317.

2. Section 431.25 is amended by revising paragraph (f) to read as follows:

§ 431.25 Energy conservation standards and effective dates.

* * * * *

(f) Each NEMA Design B general purpose electric motor with a power rating of more than 200 horsepower, but not greater than 500 horsepower, manufactured (alone or as a component of another piece of equipment), on or after December 19, 2010, shall have a nominal full load efficiency that is not less than the following:

Full-Load Efficiencies of NEMA Design B General Purpose Electric Motors
Motor horsepower | Nominal full load efficiency: Open motors (number of poles): 8 | Nominal full load efficiency: Open motors (number of poles): 6 | Nominal full load efficiency: Open motors (number of poles): 4 | Nominal full load efficiency: Open motors (number of poles): 2 | Nominal full load efficiency: Enclosed motors (number of poles): 8 | Nominal full load efficiency: Enclosed motors (number of poles): 6 | Nominal full load efficiency: Enclosed motors (number of poles): 4 | Nominal full load efficiency: Enclosed motors (number of poles): 2
250 | 94.5 | 95.4 | 95.4 | 94.5 | 94.5 | 95.0 | 95.0 | 95.4
300 |  | 95.4 | 95.4 | 95.0 |  | 95.0 | 95.4 | 95.4
350 |  | 95.4 | 95.4 | 95.0 |  | 95.0 | 95.4 | 95.4
400 |  |  | 95.4 | 95.4 |  |  | 95.4 | 95.4
450 |  |  | 95.8 | 95.8 |  |  | 95.4 | 95.4
500 |  |  | 95.8 | 95.8 |  |  | 95.8 | 95.4

* * * * *

[FR Doc. 2010-32119 Filed 12-21-10; 8:45 am]

BILLING CODE 6450-01-P